ENVIRONMENTAL PROTECTION AGENCY

[FRL-8917-7]

Proposed Administrative Cost Recovery Agreement Pursuant to Section 122(h)(1) of the Comprehensive Environmental Response, Compensation, and Liability Act (CERCLA) for the Haythorne Logistics Spill Site, Cheboygan County, MI

AGENCY: Environmental Protection Agency (“EPA”).

ACTION: Notice and request for public comment.

SUMMARY: In accordance with section 122(i) of CERCLA, 42 U.S.C. 9622(i), notification is hereby given of a proposed administrative settlement agreement regarding partial recovery of costs incurred by EPA in implementing a removal action at the site of a truck accident on Interstate 75 in Cheboygan County, Michigan. EPA proposes to enter into this agreement under the authority of Sections 107 and 122(h) of CERCLA, 42 U.S.C. 9607 and 9622(h). The proposed agreement has been executed by Haythorne Logistics, a trucking company located in Toledo Ohio. Under the proposed agreement, Haythorne Logistics will pay $119,000 to reimburse the Superfund for part of the $137,915 in costs incurred by EPA in implementing the removal action. For thirty days following the date of publication of this notice, EPA will receive written comments relating to the proposed agreement. EPA will consider all comments received and may decide not to enter into the proposed agreement if comments disclose facts or considerations which indicate that the agreement is inappropriate, improper or inadequate.

DATES: Comments on the proposed agreement must be received by EPA on or before July 15, 2009.

ADDRESSES: Comments should be addressed to the Docket Clerk, U.S. Environmental Protection Agency, Region 5, 77 West Jackson Boulevard, Chicago, Illinois 60604-3590, and should refer to: In the Matter of Haythorne Logistics, EPA Docket No. V-W-`09-C-924.

FOR FURTHER INFORMATION CONTACT: Reginald A. Pallesen, Associate Regional Counsel, by mail at: U.S. Environmental Protection Agency, Office of Regional Counsel (C-14J), 77 West Jackson Boulevard, Chicago, Illinois 60604-3590, or by phone at: (312) 886-0555. A copy of the proposed administrative settlement agreement may be obtained in person or by mail from the EPA's Region 5 Office of Regional Counsel, 77 West Jackson Boulevard, Chicago, Illinois 60604-3590. Additional background information relating to the settlement is available for review at the EPA's Region 5 Office of Regional Counsel.

Authority: The Comprehensive Environmental Response, Compensation, and Liability Act, as amended, 42 U.S.C. 9601-9675.

Dated: June 4, 2009.
Douglas E. Ballotti,
Acting Director, Superfund Division, Region 5.

[FR Doc. E9-14025 Filed 6-12-09; 8:45 am]

BILLING CODE 6560-50-P